DEPARTMENT OF HEALTH AND HUMAN SERVICES

Centers for Medicare & Medicaid Services

[Document Identifiers: CMS-10512]

Agency Information Collection Activities: Submission for OMB Review; Comment Request; Correction

ACTION: Notice; correction.

SUMMARY: The Centers for Medicare & Medicaid Services (CMS) is announcing an opportunity for the public to comment on CMS' intention to collect information from the public. Under the Paperwork Reduction Act of 1995 (PRA), federal agencies are required to publish notice in the Federal Register concerning each proposed collection of information, including each proposed extension or reinstatement of an existing collection of information, and to allow a second opportunity for public comment on the notice. Interested persons are invited to send comments regarding the burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

DATES: Comments on the collection(s) of information must be received by the OMB desk officer by March 10, 2014.

ADDRESSES: When commenting on the proposed information collections, please reference the document identifier or OMB control number. To be assured consideration, comments and recommendations must be received by the OMB desk officer via one of the following transmissions: OMB, Office of Information and Regulatory Affairs, Attention: CMS Desk Officer, Fax Number: (202) 395-5806 OR, Email: OIRA_submission@omb.eop.gov.

To obtain copies of a supporting statement and any related forms for the proposed collection(s) summarized in this notice, you may make your request using one of following:

1. Access CMS' Web site address at http://www.cms.hhs.gov/PaperworkReductionActof1995.

2. Email your request, including your address, phone number, OMB number, and CMS document identifier, to Paperwork@cms.hhs.gov.

3. Call the Reports Clearance Office at (410) 786-1326.

FOR FURTHER INFORMATION CONTACT: Reports Clearance Office at (410) 786-1326.

SUPPLEMENTARY INFORMATION: Under the Paperwork Reduction Act of 1995 (PRA) (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA (44 U.S.C. 3506(c)(2)(A)) requires federal agencies to publish a 30-day notice in the Federal Register concerning each proposed collection of information, including each proposed extension or reinstatement of an existing collection of information, before submitting the collection to OMB for approval. To comply with this requirement, CMS is publishing this notice that summarizes the following proposed collection(s) of information for public comment:

1. Type of Information Collection Request: New collection (Request for new OMB control number); Title of Information Collection: Direct Service Workforce (DSW) Resource Center (RC) Core Competencies (CC) Survey Instrument; Use: This survey is part of Phase IIIB of the Direct Service Workforce (DSW) Resource Center's (RC) Road Map of Core Competencies (CC) for the DSW. The collected data will be used by the DSW RC's, states, direct service agencies and other partners interested in implementing the core competencies. The target populations for the surveys include DSW professionals, front line supervisors and managers, agency administrators and directors, participants and families/guardians, and self-advocates.

The overall purpose of this survey is to confirm and validate that the DSW RC's set of core competencies are relevant and applicable to actual direct service workers, their employers and their participants. Information gained from the survey will lend credibility to the set of core competencies. As the population of older adults with long-term services and supports needs grow, more emphasis will be placed on the DSW and a universally accepted set of core competencies such as that produced by the DSW RC would increase retention, agility and capacity of the workforce.

CMS, in collaboration with the DSW RC, will use the resources and tools developed and refined through this project to develop a Direct Service Workforce set of Core Competencies web-based toolkit that will be made available to all states and territories. It will also establish the core competency set in the public domain and provide technical assistance to promote the development of specializations within each sector. Form Number: CMS-10512 (OCN: 0938—New); Frequency: Once; Affected Public: Individuals and households, Private sector (Business or other for-profits and Not-for-profit institutions), and State, Local, or Tribal Governments; Number of Respondents: 4,800; Total Annual Responses: 4,800; Total Annual Hours: 2,400. (For policy questions regarding this collection contact Kathryn King at 410-786-1283.)

Dated: February 4, 2014.
Martique Jones,
Deputy Director, Regulations Development Group, Office of Strategic Operations and Regulatory Affairs.

[FR Doc. 2014-02630 Filed 2-6-14; 8:45 am]

BILLING CODE 4120-01-P